Proclamation 9037 of October 8, 2013

Leif Erikson Day, 2013

By the President of the United States of America

A Proclamation

More than a millennium ago, Leif Erikson, a son of Iceland and grandson of Norway, cast off from Norway's familiar shores and set sail for Greenland. Erikson and his crew were not aiming to make history. But their ship drifted off course in the North Atlantic, and they landed in present-day Canada, making them the first Europeans known to visit North America. Their settlement, Vinland, sustained them in the following months. And when the seafarers returned to Greenland, they brought stories of discovery with them and forged the first link in a chain that has connected our continents ever since.

Today, we commemorate Leif Erikson's journey. We also honor a group of Norwegian immigrants who summoned that same striving spirit centuries later. Together, in 1825, they braved uncertain waters with hope in their hearts, confident that greater opportunity and brighter horizons awaited them on American shores. The travelers were among the first to complete the voyage from Norway to New York City. And just as Leif Erikson had, they lit the way for generations to follow.

These stories reaffirm that America has always been a place of unbounded promise. We are home to explorers and entrepreneurs, immigrants and innovators. We endeavor to be a country where anyone who is willing to work hard and take risks can turn even the most improbable idea into something great. On Leif Erikson Day, we celebrate that legacy and the countless Norwegian Americans who have lived it, and we carry it forward in the years ahead.

To honor Leif Erikson and celebrate our Nordic-American heritage, the Congress, by joint resolution (Public Law 88-566) approved on September 2, 1964, has authorized the President of the United States to proclaim October 9 of each year as “Leif Erikson Day.”

NOW, THEREFORE, I, BARACK OBAMA, President of the United States of America, do hereby proclaim October 9, 2013, as Leif Erikson Day. I call upon all Americans to observe this day with appropriate ceremonies, activities, and programs to honor our rich Nordic-American heritage.

IN WITNESS WHEREOF, I have hereunto set my hand this eighth day of October, in the year of our Lord two thousand thirteen, and of the Independence of the United States of America the two hundred and thirty-eighth.

[FR Doc. 2013-24501

Filed 10-15-13; 8:45 am]

Billing code 3295-F4